DEPARTMENT OF EDUCATION

National Board for Education Sciences; Meeting

AGENCY: U.S. Department of Education, Institute of Education Sciences.

ACTION: Notice of an open meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend the meeting.

DATES: June 29, 2011. Time: 8:30 a.m. to 5 p.m.

ADDRESSES: 80 F Street, NW., Room 100, Washington, DC 20208.

FOR FURTHER INFORMATION CONTACT: Monica Herk, Executive Director, National Board for Education Sciences, 555 New Jersey Ave., NW., Room 602 I, Washington, DC, 20208; phone: (202) 208-3491; fax: (202) 219-1466; e-mail: Monica.Herk@ed.gov.

SUPPLEMENTARY INFORMATION: The National Board for Education Sciences is authorized by Section 116 of the Education Sciences Reform Act of 2002 (ESRA), 20 U.S.C. 9516. The Board advises the Director of the Institute of Education Sciences (IES) on, among other things, the establishment of activities to be supported by the Institute, on the funding for applications for grants, contracts, and cooperative agreements for research after the completion of peer review, and reviews and evaluates the work of the Institute.

At this time, the Board consists of ten of fifteen appointed members due to the expirations of the terms of former members. The Board shall meet and can carry out official business because the ESRA states that a majority of the voting members serving at the time of a meeting constitutes a quorum.

On June 29, 2011, starting at 8:30 a.m. the Board will approve the agenda and hear remarks from the chair, followed by the swearing in of new members. John Easton, IES Director, and the Commissioners of the national centers will give an overview of recent developments at IES. From 9:15 to 10:30 a.m. Board members will address the topic of “Linking NCES and State Data, and Other Initiatives to Create a More Comprehensive Portrait of U.S. Students and Schools.” Opening remarks by Dr. Jack Buckley, NCES Commissioner, will be followed by Board discussion. A break will take place from 10:30 to 10:45 a.m.

From 10:45 a.m. to 12:15 p.m., the Board will consider the topic, “The `Big Picture'.” Board members will engage in a roundtable discussion addressing the following questions: “Within the overall Board-approved IES research priorities, what are the most important and compelling research questions and topics to address?” and “Where are the gaps in knowledge the greatest and most serious?” The meeting will break for lunch from 12:15 to 1:15 p.m.

Following lunch the Board will turn to the topic, “Communications: What are effective ways to communicate key research findings?” from 1:15 to 2:45 p.m. After opening remarks by IES Director John Easton and Dr. John W. Wallace, formerly with MDRC, the Board will discuss the issue, paying particular attention to two potential audiences for the research findings: (1) Federal, state, and local education policy-makers, and (2) educational practitioners at the school or classroom level.

An afternoon break from 2:45 to 3 p.m. will precede a presentation and discussion of “Low-Cost Randomized Controlled Trials (RCTs) Using Existing Data (e.g., State Test Scores)” from 3 to 4:30 p.m. Dr. Eric Bettinger of Stanford University and Dr. Robert Slavin of Johns Hopkins University and the Success for All Foundation will present brief remarks, followed by Board discussion.

At 4:30 p.m. there will be closing remarks and a consideration of next steps from the IES Director and NBES Chair, with adjournment scheduled for 5 p.m.

Individuals who will need accommodations for a disability in order to attend the meeting (e.g., interpreting services, assistance listening devices, or materials in alternative format) should notify Monica Herk no later than June 15. We will attempt to meet requests for accommodations after this date but cannot guarantee their availability. The meeting site is accessible to individuals with disabilities.

There will not be an opportunity for public comment. However, members of the public are encouraged to submit written comments related to NBES to Monica Herk (see contact information above. A final agenda will be available from Monica Herk (see contact information above) on June 15 and will be posted on the Board Web site http://ies.ed.gov/director/board/agendas/index.asp.

Records are kept of all Committee proceedings and are available for public inspection at 555 New Jersey Ave., NW., Room 602 K, Washington, DC 20208, from the hours of 9 a.m. to 5 p.m., Eastern Standard Time Monday through Friday.

Electronic Access to This Document: You may view this document, as well as all other documents of this Department published in the Federal Register, in text or Adobe Portable Document Format (PDF) on the Internet at the following site: http://www.ed.gov/news/fed-register/index.html.

To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: http://www.gpoaccess.gov/nara/index.html.

Dated: June 6, 2011.
John Q. Easton,
Director, Institute of Education Sciences.

[FR Doc. 2011-14423 Filed 6-9-11; 8:45 am]

BILLING CODE 4000-01-P